DEPARTMENT OF COMMERCE

International Trade Administration

[A-549-821]

Polyethylene Retail Carrier Bags From Thailand: Extension of Time Limit for the Final Results of the Antidumping Duty Administrative Review

AGENCY: Import Administration, International Trade Administration, Department of Commerce.

DATES: Effective Date: December 3, 2010.

FOR FURTHER INFORMATION: Thomas Schauer, AD/CVD Operations, Office 5, Import Administration, International Trade Administration, U.S. Department of Commerce, 14th Street and Constitution Avenue, NW., Washington, DC 20230; telephone: (202) 482-0410.

SUPPLEMENTARY INFORMATION:

Background

On September 2, 2010, the Department of Commerce (the Department) published the preliminary results of review of the antidumping duty order on polyethylene retail carrier bags from Thailand. See Polyethylene Retail Carrier Bags From Thailand: Preliminary Results of Antidumping Duty Administrative Review, 75 FR 53953 (September 2, 2010). The administrative review covers the period August 1, 2008, through July 31, 2009.

Extension of Time Limit for Final Results of Review

Pursuant to section 751(a)(3)(A) of the Tariff Act of 1930, as amended (the Act), the Department shall make a final determination in an administrative review of an antidumping duty order within 120 days after the date on which the preliminary results are published. The Act provides further that the Department may extend that 120-day period to 180 days after the preliminary results if it determines it is not practicable to complete the review within the foregoing time period.

The Department finds that it is not practicable to complete the final results of the administrative review of the antidumping duty order on polyethylene retail carrier bags from Thailand within the 120-day time limit due to the necessity of issuing a post-preliminary determination regarding whether it is appropriate to use an alternative cost methodology. We find that additional time is needed to complete the final results. Therefore, in accordance with section 751(a)(3)(A) of the Act, the Department is extending the time period for completion of the final results of this review, which is currently due on December 31, 2010, by 60 days to March 1, 2011, which is the 180th day after publication of the preliminary results.

This notice is published in accordance with sections 751(a)(3)(A) and 777(i) of the Act.

Dated: November 29, 2010.
Susan H. Kuhbach,
Acting Deputy Assistant Secretary for Antidumping and Countervailing Duty Operations.

[FR Doc. 2010-30381 Filed 12-2-10; 8:45 am]

BILLING CODE 3510-DS-P